DEPARTMENT OF ENERGY

Federal Energy Regulatory Commission

Notice of Commission Closing and Filing Deadlines

Take notice that on Friday, June 18, 2021, the Federal Energy Regulatory Commission will be closed in observance of Juneteenth National Independence Day.

On June 17, 2021, the President of the United States signed into law the Juneteenth National Independence Day Act, establishing June 19 as a federal holiday. Because June 19, 2021, falls on a Saturday, the holiday will be observed this year on June 18, 2021.

In accordance with section 385.2007 of the Commission's rules, 18 CFR 385.2007 (2020), all filings and documents due to be filed on Friday, June 18, 2021, will be accepted as timely on the next official business day.

Dated: June 17, 2021.
Kimberly D. Bose,
Secretary.

[FR Doc. 2021-13297 Filed 6-23-21; 8:45 am]

BILLING CODE 6717-01-P